DEPARTMENT OF HEALTH AND HUMAN SERVICES

Administration for Children and Families

Submission for OMB Review; Family Reunification Packet for Sponsors of Unaccompanied Children (OMB #0970-0278)

AGENCY: Office of Refugee Resettlement, Administration for Children and Families, HHS.

ACTION: Request for public comment.

SUMMARY: The Office of Refugee Resettlement (ORR), Administration for Children and Families (ACF), U.S. Department of Health and Human Services (HHS), is inviting public comments on revisions to an approved information collection. The request consists of several forms that allow the Unaccompanied Children (UC) Program to assess the suitability of potential sponsors for UC.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: ORR proposes the following revisions to this information collection:

For all forms, ORR replaced the term “minor” with “child.”

• Authorization for Release of Information—

○ ORR replaced the term “minor” with “child.”

○ ORR removed the Alien Registration Number field, since it is not required for background checks.

○ ORR removed reference to “past and present immigration status,” since that information will no longer be collected in the Family Reunification application.

• Family Reunification Application—

○ ORR replaced the term “minor” with “child.”

○ Proof of Identity—ORR added clarification that individuals under the age of 21 may use the ORR Verification of Release form with a photograph to meet this requirement.

○ Proof of Immigration Status or U.S. Citizenship—ORR removed the requirement that potential sponsors provide documentation verifying their immigration status or U.S. citizenship. ORR no longer uses this information as a criterion to determine when a sponsor care plan is required; therefore, it is no longer necessary to collect this information.

○ Proof of Address—ORR also removed the phrase “dated within the last two months” that appears after the current lease line item, because it is not applicable to that acceptable form of documentation.

○ Burden Estimate—ORR increased the average burden hours per response from 0.75 hours to a more accurate estimate of 1.0 hour.

• Letter of Designation for Care of a Minor—

○ ORR replaced the term “minor” with “child.”

○ ORR also increased the average burden hours per response from 0.5 hours to a more accurate estimate of 0.75 hours.

Respondents: Potential sponsors of UC.

Annual Burden Estimates:

Respondents
Instrument title | Annual total number of respondents | Annual total number of responses per respondent | Average burden hours per response | Annual total burden hours
Authorization for Release of Information (Forms FRP-2 & FRP-2s) | 81,532 | 1 | 0.50 | 40,766
Family Reunification Application (Forms FRP-3 & FRP-3s) | 122,950 | 1 | 1.00 | 122,950
Fingerprinting Instructions (Forms FRP-7 & FRP-7s) | 81,532 | 1 | 1.25 | 101,915
Letter of Designation for Care of Minor (Forms FRP-9 & FRP-9s) | 41,181 | 1 | 0.75 | 30,886
Estimated Annual Burden Total |  |  |  | 296,517

Record Keepers
Instrument title | Annual total number of record keepers | Annual total number of responses per record keeper | Average burden hours per response | Annual total burden hours
Authorization for Release of Information (Forms FRP-2 & FRP-2s) | 235 | 347 | 0.25 | 20,386
Family Reunification Application (Forms FRP-3 & FRP-3s) | 235 | 523 | 0.25 | 30,726
Fingerprinting Instructions (Forms FRP-7 & FRP-7s) | 235 | 347 | 1.00 | 81,545
Letter of Designation for Care of Minor (Forms FRP-9 & FRP-9s) | 235 | 175 | 0.25 | 10,281
Estimated Annual Burden Hours Total |  |  |  | 142,938

Authority: 6 U.S.C. 279; 8 U.S.C. 1232; Flores v. Reno Settlement Agreement, No. CV85-4544-RJK (C.D. Cal. 1996).

Mary B. Jones,
ACF/OPRE Certifying Officer.

[FR Doc. 2022-13631 Filed 6-24-22; 8:45 am]

BILLING CODE 4184-45-P